DEPARTMENT OF ENERGY

Federal Energy Regulatory Commission

Combined Notice of Filings #1

Take notice that the Commission received the following electric corporate filings:

Docket Numbers: EC14-27-000.

Applicants: Colorado Highlands Wind, LLC.

Description: Application for Authorization of Disposition of Facilities under Section 203 of the Federal Power Act and Requests for Confidential Treatment, Expedited Consideration and Waivers of Colorado Highlands Wind, LLC.

Filed Date: 11/12/13.

Accession Number: 20131112-5352.

Comments Due: 5 p.m. ET 12/3/13.

Take notice that the Commission received the following electric rate filings:

Docket Numbers: ER10-2848-002; ER11-1939-004; ER11-2754-004; ER12-999-002; ER12-1002-002; ER12-1005-002; ER12-1006-002; ER12-1007-003.

Applicants: AP Holdings, LLC, AP Gas & Electric (IL), LLC, AP Gas & Electric (PA), LLC, AP Gas & Electric (TX), LLC, AP Gas & Electric (MD), LLC, AP Gas & Electric (NJ), LLC, AP Gas & Electric (OH), LLC, AP Gas & Electric (NY), LLC.

Description: Supplement to June 28, 2013 Updated Market Power Analysis for the Southwest Region of AP Holdings Subsidiaries.

Filed Date: 11/12/13.

Accession Number: 20131112-5224.

Comments Due: 5 p.m. ET 12/3/13.

Docket Numbers: ER11-3050-001.

Applicants: FirstEnergy Corp.

Description: Notice of change in status of FirstEnergy Companies.

Filed Date: 11/8/13.

Accession Number: 20131108-5072.

Comments Due: 5 p.m. ET 11/29/13.

Docket Numbers: ER13-1292-001.

Applicants: Southwest Power Pool, Inc.

Description: Order No. 764 Compliance (Scheduling) to be effective 11/12/2013.

Filed Date: 11/12/13.

Accession Number: 20131112-5298.

Comments Due: 5 p.m. ET 12/3/13.

Docket Numbers: ER13-2485-001.

Applicants: Dominion Energy Marketing, Inc.

Description: Compliance Filing—Corrected Tariff Record of Previous filing of 093013 to be effective 10/1/2013.

Filed Date: 11/13/13.

Accession Number: 20131113-5085.

Comments Due: 5 p.m. ET 12/4/13.

Docket Numbers: ER14-356-000.

Applicants: Conservation Services Group Inc.

Description: Petition for Limited Waiver and Request for Expedited Action Conservation Services Group Inc. under.

Filed Date: 11/8/13.

Accession Number: 20131108-5111.

Comments Due: 5 p.m. ET 11/22/13.

Docket Numbers: ER14-377-000.

Applicants: Golden Spread Electric Cooperative, Inc.

Description: OATT Order No. 764 Compliance Filing to be effective 11/12/2013.

Filed Date: 11/12/13.

Accession Number: 20131112-5269.

Comments Due: 5 p.m. ET 12/3/13.

Docket Numbers: ER14-378-000.

Applicants: PJM Interconnection, L.L.C.

Description: Queue Position Y3-045 & Y3-052; Original Service Agreement No. 3667 to be effective 10/10/2013.

Filed Date: 11/12/13.

Accession Number: 20131112-5291.

Comments Due: 5 p.m. ET 12/3/13.

Docket Numbers: ER14-379-000.

Applicants: PJM Interconnection, L.L.C.

Description: Queue Position Y3-044/Y3-050/Y3-053; Original SA No. 3668 to be effective 10/10/2013.

Filed Date: 11/12/13.

Accession Number: 20131112-5299.

Comments Due: 5 p.m. ET 12/3/13.

Docket Numbers: ER14-380-000.

Applicants: Midcontinent Independent System Operator, Inc.

Description: 11-12-13 Module E Cancellation to be effective 1/11/2014.

Filed Date: 11/12/13.

Accession Number: 20131112-5300.

Comments Due: 5 p.m. ET 12/3/13.

Docket Numbers: ER14-381-000.

Applicants: PJM Interconnection, L.L.C.

Description: OATT Order No. 764 Compliance Filing—Docket No. RM10-11 to be effective 1/13/2014.

Filed Date: 11/12/13.

Accession Number: 20131112-5301.

Comments Due: 5 p.m. ET 12/3/13.

Docket Numbers: ER14-382-000.

Applicants: Cheyenne Light, Fuel and Power Company.

Description: OATT Order No. 764 Compliance Filing to be effective 11/13/2013.

Filed Date: 11/12/13.

Accession Number: 20131112-5302.

Comments Due: 5 p.m. ET 12/3/13.

Docket Numbers: ER14-383-000.

Applicants: Black Hills Power, Inc.

Description: OATT Order No. 764 Compliance Filing to be effective 11/13/2013.

Filed Date: 11/12/13.

Accession Number: 20131112-5305.

Comments Due: 5 p.m. ET 12/3/13.

Docket Numbers: ER14-384-000.

Applicants: Black Hills/Colorado Electric Utility Company, LP.

Description: OATT Order No. 764 Compliance Filing to be effective 11/13/2013.

Filed Date: 11/12/13.

Accession Number: 20131112-5311.

Comments Due: 5 p.m. ET 12/3/13.

Docket Numbers: ER14-385-000.

Applicants: New York Independent System Operator, Inc.

Description: OATT Order No. 764 Compliance Filing to be effective 1/15/2014.

Filed Date: 11/12/13.

Accession Number: 20131112-5332.

Comments Due: 5 p.m. ET 12/3/13.

Docket Numbers: ER14-386-000.

Applicants: Cleco Power LLC.

Description: RS 66, Toledo Bend PSA Amendment to be effective 12/19/2013.

Filed Date: 11/13/13.

Accession Number: 20131113-5000.

Comments Due: 5 p.m. ET 12/4/13.

Docket Numbers: ER14-387-000.

Applicants: Cheyenne Light, Fuel and Power Company.

Description: Clarification of Cat 2 Status in NW Region and Cat 1 Status in All Other Regions to be effective 11/27/2013.

Filed Date: 11/13/13.

Accession Number: 20131113-5070.

Comments Due: 5 p.m. ET 12/4/13.

Docket Numbers: ER14-388-000.

Applicants: Black Hills Power, Inc.

Description: Clarification of Cat 2 Status in NW Region and Cat 1 Status in All Other Regions to be effective 11/27/2013.

Filed Date: 11/13/13.

Accession Number: 20131113-5072.

Comments Due: 5 p.m. ET 12/4/13.

Docket Numbers: ER14-389-000.

Applicants: Black Hills Wyoming, LLC.

Description: Clarification of Cat 2 Status in NW Region and Cat 1 Status in All Other Regions to be effective 11/27/2013.

Filed Date: 11/13/13.

Accession Number: 20131113-5073.

Comments Due: 5 p.m. ET 12/4/13.

Docket Numbers: ER14-390-000.

Applicants: Black Hills/Colorado Electric Utility Company, LP.

Description: Clarification of Cat 2 Status in NW Region and Cat 1 Status in All Other Regions to be effective 11/27/2013.

Filed Date: 11/13/13.

Accession Number: 20131113-5098.

Comments Due: 5 p.m. ET 12/4/13.

Docket Numbers: ER14-391-000.

Applicants: Southwest Power Pool, Inc.

Description: 2548R4 KMEA and Westar Energy Meter Agent Agreement to be effective 11/1/2013.

Filed Date: 11/13/13.

Accession Number: 20131113-5103.

Comments Due: 5 p.m. ET 12/4/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 13, 2013.
Nathaniel J. Davis, Sr.,
Deputy Secretary.

[FR Doc. 2013-28014 Filed 11-21-13; 8:45 am]

BILLING CODE 6717-01-P